DEPARTMENT OF TRANSPORTATION

Federal Railroad Administration

[Docket Number FRA-2003-15011]

Petition for Waiver of Compliance

In accordance with part 211 of Title 49 Code of Federal Regulations (CFR), this document provides the public notice that by a document dated September 17, 2013, the Eastern Maine Railway (EMRY) has petitioned the Federal Railroad Administration (FRA) for an extension of its waiver of compliance from certain provisions of 49 CFR part 241, United States Locational Requirements for Dispatching of United States Rail Operations. FRA assigned the petition Docket Number FRA-2003-15011.

In its petition, EMRY requests an extension of its existing waiver of compliance, pursuant to 49 CFR 241.7(c), to allow the continuation of Canadian dispatching of that part of the Mattawamkeag Subdivision located in the United States, extending between Vanceboro and Brownville Junction, Maine, approximately 99 miles, as defined in Appendix A to part 241. This request was submitted in accordance with 49 CFR 241.7(c)(3), which permits waiver of the requirements found in part 241, specifically that all dispatching of U.S. rail operations be conducted in the U.S. This territory was previously grandfathered in the exceptions to extraterritorial dispatching contained in FRA's interim final rule (see 66 FR 63942, December 11, 2001).

In this regard, the track segment identified in the interim final rule remains the same as identified above. This segment consists of a single main track dispatched from a single desk at EMRY's rail traffic control office in St. John, New Brunswick, Canada, under Canadian Rail Operating Rules and EMRY's Timetable and Special Instructions. The trackage is nonsignaled and operated under occupancy control system rules. All dispatching is conducted in English. All units of measure are the same as those used in the U.S. EMRY operates approximately two trains a day over this segment.

The train dispatchers who perform the dispatching function for EMRY are employed by the New Brunswick Southern Railway (NBSR) and are therefore covered under their company drug and alcohol policies, and their dispatching office is under 24-hour security. The Department of Transportation of the Province of New Brunswick, Canada, is the regulatory authority that exercises safety jurisdiction over NBSR.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 7, 2014 will be considered by FRA before final action is taken. Comments received after that date will be considered as far as practicable.

Anyone is able to search the electronic form of any written communications and comments received into any of our dockets by the name of the individual submitting the comment (or signing the comment, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-00950 Filed 1-17-14; 8:45 am]

BILLING CODE 4910-06-P